INTERNATIONAL TRADE COMMISSION

[Investigation No. 337-TA-800]

Certain Wireless Devices With 3G Capabilities and Components Thereof Commission Determination To Grant an Unopposed Motion by Complainants To Withdraw the Complaint as to the Remaining Respondents; Termination of the Investigation

AGENCY: U.S. International Trade Commission.

ACTION: Notice.

SUMMARY: Notice is hereby given that the U.S. International Trade Commission has determined to grant an unopposed motion by complainants to withdraw the investigation as to the following remaining respondents: LG Electronics, Inc. of Seoul, Republic of Korea; LG Electronics U.S.A., Inc. of Englewood Cliffs, New Jersey; and LG Electronics Mobilecomm U.S.A., Inc. of San Diego, California (collectively, “LG”). The investigation is terminated in its entirety.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 31, 2011, based on a complaint filed by InterDigital Communications, LLC of King of Prussia, Pennsylvania; InterDigital Technology Corporation of Wilmington, Delaware; and IPR Licensing, Inc. of Wilmington, Delaware (collectively, “InterDigital”). 76 FR 54252 (Aug. 31, 2011). The complaint alleged violations of section 337 of the Tariff Act of 1930, as amended 19 U.S.C. 1337, in the importation into the United States, the sale for importation, and the sale within the United States after importation of certain wireless devices with 3G capabilities and components thereof by reason of infringement of certain claims of United States Patent Nos. 7,349,540 (terminated from the investigation); 7,502,406 (the '406 patent); 7,536,013 (the '013 patent); 7,616,970 (the '970 patent); 7,706,332 (the '332 patent); 7,706,830 (the '830 patent); and 7,970,127 (the '127 patent). The notice of investigation named several respondents. The complaint and notice of investigation were subsequently amended to allege infringement of certain claims of United States Patent No. 8,009,636 (the '636 patent) and to add the LG entities as respondents. 76 FR 81527 (Dec. 28, 2011). The complaint and notice of investigation were further amended to include an additional respondent. 77 FR 26788 (May 7, 2012).

InterDigital Communications, LLC subsequently moved for leave to amend the Complaint and Notice of Investigation to reflect the fact that it converted from a Pennsylvania limited liability company to a Delaware corporation, and changed its name to InterDigital Communications, Inc. The ALJ issued an ID granting the motion and the Commission determined not to review. See Order No. 91 (Jan. 17, 2013); Notice of Commission Determination Not to Review an Initial Determination Granting Complainants' Motion for Leave to Amend the Complaint and Notice of Investigation (Feb. 4, 2013).

On June 4, 2012, the ALJ granted a motion by LG under 19 CFR 210.21(a)(2) to terminate the investigation as to LG based on an arbitration agreement. See Order No. 30 (June 4, 2012). The Commission determined not to review. InterDigital appealed LG's termination from this investigation, and the Federal Circuit reversed the Commission's determination. InterDigital Commc'ns, LLC v. Int'l Trade Comm'n, 718 F.3d 1336 (Fed. Cir. 2013). The mandate issued on October 10, 2013, returning jurisdiction to the Commission.

On June 28, 2013, the ALJ issued his final initial determination (“ID”), finding no violation of section 337 by respondents whose products were adjudicated (“Adjudicated Respondents”). On December 19, 2013, the Commission determined to affirm the ALJ's finding of no violation of section 337 as to those respondents with the modifications set forth in a Commission opinion that issued on December 20, 2013. The Commission adopted the ALJ's findings that the '970, '013, and '127 patents are invalid in light of the prior art. However, due to the LG remand, the Commission noted that all other issues, namely, validity of the '830, '636, '406, and '332 patents, domestic industry, and FRAND continue to remain under review.

On January 13, 2014, InterDigital moved to withdraw the complaint as to LG. On January 23, 2014, the Commission investigative attorney filed a response in support of the motion. That same day, LG filed a response stating that it does not oppose the motion.

Having reviewed the motion and responses, the Commission has determined to grant the motion. The motion complies with the requirements of Commission Rule 210.21 (19 CFR 210.21) and includes the required statement that there are no agreements, written or oral, express or implied, between the parties concerning the subject matter of this investigation. In addition, there appear to be no extraordinary circumstances that would compel denying the motion. Certain Ultrafiltration Membrane Sys. and Components Thereof, Inv. No. 337-TA-107, Commission Action and Order, at 2 (Mar. 11, 1982). As all the parties observe, terminating the investigation as to LG will conserve substantial public and private resources. Under these circumstances, termination of LG will not adversely affect the public health and welfare, competitive conditions in the U.S. economy, the production of like or directly competitive articles in the United States, or U.S. consumers.

In its December 19, 2013, notice terminating the Adjudicated Respondents, the Commission noted that due to the LG remand, issues pertaining to the validity of the Power Ramp Up (the '830 and '636 patents) and Power Control (the '406 and '332 patents) patents as well as domestic industry and FRAND remained under review. The Commission has determined to adopt the ALJ's finding in the final ID that the Adjudicated Respondents failed to establish by clear and convincing evidence that the '830, '636, '406, and '332 patents are invalid. The Commission has determined to take no position on whether InterDigital established a domestic industry as required by 19 U.S.C. 1337(a)(2). In view of its finding that Adjudicated Respondents did not violate section 337 because of non-infringement and the withdrawal of the remaining respondents, the Commission has also determined to take no position on the FRAND issues. See Beloit Corp. v. Valmet Oy, 742 F.2d 1421, 1423 (Fed. Cir. 1984) (“The Commission . . . is at perfect liberty to reach a `no violation' determination on a single dispositive issue. That approach may often save the Commission, the parties, and this court substantial unnecessary effort.”).

The authority for the Commission's determination is contained in section 337 of the Tariff Act of 1930, as amended (19 U.S.C. 1337), and in sections 210.21, 210.42-46 and 210.50 of the Commission's Rules of Practice and Procedure (19 CFR 210.21, 210.42-46 and 210.50).

Issued: February 12, 2014.
By order of the Commission.
Lisa R. Barton,
Acting Secretary to the Commission.

[FR Doc. 2014-03548 Filed 2-18-14; 8:45 am]

BILLING CODE 7020-02-P